DEPARTMENT OF TRANSPORTATION

National Highway Traffic Safety Administration

[Docket No. NHTSA 2005-20046; Notice 2]

Bridgestone/Firestone North America Tire, LLC. Grant of Application for Decision of Inconsequential Noncompliance

Bridgestone/Firestone North America Tire, LLC has determined that approximately 937 size P175/65R14, Bridgestone WS50Z tires do not meet the labeling requirements mandated by Federal Motor Vehicle Safety Standard (FMVSS) No. 109, “New Pneumatic Tires.”

Pursuant to 49 U.S.C. 30118(d) and 30120(h), Bridgestone/Firestone has petitioned for a determination that this noncompliance is inconsequential to motor vehicle safety and has filed an appropriate report pursuant to 49 CFR part 573, “Defect and Noncompliance Reports.” FMVSS No. 109 (S4.3 (e)) requires that each tire shall have permanently molded into or onto both sidewalls the actual number of plies in the sidewall, and the actual number of plies in the tread area, if different.

Notice of receipt of the application was published, with a 30-day comment period, on February 1, 2005, in the Federal Register (70 FR 5267). NHTSA received no comment on this application.

The noncompliance with S4.3 (e) relates to the sidewall markings. Bridgestone/Firestone Nasu, Japan Plant produced approximately 937 tires with incorrect markings during the DOT weeks of 2702, 1203, and 1303. The noncompliant tires were marked: “2 STEEL & 1 POLY.” The correct marking required by FMVSS No. 109 is as follows: “2 STEEL & 1 POLY & 1 NYLON.”

Bridgestone/Firestone stated that the noncompliant tires were actually constructed with more tread plies than indicated on the sidewall marking. Therefore, Bridgestone/Firestone believes this noncompliance is particularly unlikely to have an adverse affect on motor vehicle safety and is clearly inconsequential in that regard. They reported that the noncompliant tires meet or exceed all performance requirements of FMVSS No. 109 and will have no impact on the operational performance or safety of vehicles on which these tires are mounted.

The Transportation Recall, Enhancement, Accountability, and Documentation (TREAD) Act (Pub. L. 106-414) required, among other things, that the agency initiate rulemaking to improve tire label information. In response, the agency published an Advance Notice of Proposed Rulemaking (ANPRM) in the Federal Register on December 1, 2000 (65 FR 75222). The agency received more than 20 comments on the tire labeling information required by 49 CFR Sections 571.109 and 119, Part 567, Part 574, and Part 575. With regard to the tire construction labeling requirements of FMVSS No. 109, S4.3, paragraphs (d) and (e), most commenters indicated that the information was of little or no safety value to consumers. However, according to the comments, when tires are processed for retreading or repairing, it is important for the retreader or repair technician to understand the make-up of the tires and the types of plies. This enables them to select the proper procedures for retreading or repairing the tires. A steel cord radial tire can experience a circumferential or “zipper” rupture in the upper sidewall when it is operated under inflated or overloaded. If information regarding the number of plies and cord material is removed from the sidewall, technicians cannot determine if the tire has a steel cord sidewall ply. As a result, many light truck tires will inadvertently be inflated outside a restraining device or safety cage, presenting a substantial threat to the technician. This tire construction information is critical when determining if the tire is a candidate for a zipper rupture and additional safety precautions. In this case, since the steel cord construction is properly identified on the sidewall, the technician will have sufficient notice.

In addition, the agency conducted a series of focus groups, as required by the TREAD Act, to examine consumer perceptions and understanding of tire labeling. Few of the focus group participants had knowledge of tire labeling beyond the tire brand name, tire size, and tire pressure.

The agency believes that the true measure of inconsequentiality to motor vehicle safety, in this case, is the effect of the noncompliance on the operational safety of vehicles on which these tires are mounted. Since the tires had more tread plies than indicated on the sidewall, the labeling noncompliance has no effect on the performance of the subject tires. A tire with more tread plies is likely to be a more robust tire even though it has no additional load-carrying capacity.

In consideration of the foregoing, NHTSA has decided that the applicant has met its burden of persuasion that the noncompliance is inconsequential to motor vehicle safety. Accordingly, its application is granted and the applicant is exempted from providing the notification of the noncompliance as required by 49 U.S.C. 30118, and from remedying the noncompliance, as required by 49 U.S.C. 30120.

(Authority: 49 U.S.C. 301118, 301120; delegations of authority at 49 CFR 1.50 and 501.8)

Issued on: July 13, 2005.
Stephen R. Kratzke,
Associate Administrator for Rulemaking.

[FR Doc. 05-14140 Filed 7-18-05; 8:45 am]

BILLING CODE 4910-59-P